DEPARTMENT OF COMMERCE

National Oceanic and Atmospheric Administration

[Docket No. 0907081109-010-05]

RIN 0648-ZC10

Availability of Grant Funds for Fiscal Year 2010; Amendment

AGENCY: National Oceanic and Atmospheric Administration (NOAA), Department of Commerce (DOC).

ACTION: Notice of funding availability; amendment

SUMMARY: NOAA publishes this notice to amend the solicitation “Financial Assistance to Establish five NOAA Cooperative Centers at Minority Serving Institutions Announcement” (Federal Funding Opportunity Number NOAA-SEC-OED-2010-2002243), originally announced in the Federal Register on Tuesday, January 19, 2010. This notice announces that the NOAA Educational Partnership Program (EPP) will accept Letters of Intent. Please consult both the Federal Register Notice and the Full Funding Opportunity documents that will be available spring 2010 for the application deadline.

DATES: Applicants interested in submitting a Letter of Intent (LOI), may submit the LOI to NOAA EPP no later than April 5, 2010.

APPLICATION DEADLINE: Please consult both the Federal Register Notice and the Full Funding Opportunity documents that will be available spring 2010.

ADDRESSES: Letters of Intent may be e-mailed to jacqueline.j.rousseau@noaa.gov or meka.laster@noaa.gov. Hard copies may be sent to Jacqueline Rousseau (Federal Program Officer) or Meka Laster, NOAA Office of Education (OEd), Educational Partnership Program (EPP), 1315 East-West Highway, Silver Spring, MD 20910. The LOI may be faxed to 301-713-9465 and directed to Jacqueline Rousseau or Meka Laster. In the Letters of Intent please include the following information: (1) The name of the Minority Serving Institution per the Department of Education web pages (see eligibility below); (2) the full name of the Ph.D.-granting institution; and, (3) the NOAA Line Office with which the Center will partner.

FOR FURTHER INFORMATION CONTACT: For administrative and technical questions, please contact Jacqueline Rousseau (Federal Program Officer), telephone 301-713-9437 ext. 124, fax 301-713-9465, or e-mail jacqueline.j.rousseau@noaa.gov. The alternative technical contact is Meka Laster, telephone 301-713-9437 ext. 147, fax 301-713-9465 or meka.laster@noaa.gov.

SUPPLEMENTARY INFORMATION: NOAA publishes this notice to inform the public of an amendment to the solicitation “Financial Assistance to Establish five NOAA Cooperative Centers at Minority Serving Institutions Announcement” that was included in the January 19, 2010 Federal Register Notice. The January 19, 2010 Federal Register Notice incorrectly stated the Letter of Intent deadline. NOAA EPP will accept Letters of Intent no later than April 5, 2010. The January 19, 2010 Federal Register Notice also incorrectly stated the application deadline as July 19, 2010. Please consult both the Federal Register Notice and the Full Funding Opportunity documents that will be available spring 2010 for the application deadline.

This document makes no other amendments to the January 19, 2010 Federal Register Notice. The program description of EPP may be found on the Web site: www.epp.noaa.gov. Please consult both the Federal Register Notice (FRN) and the Federal Funding Opportunity announcement that will be available spring 2010. Letters of Intent (LOI) are not required. However, interested parties applicants who would like to submit a Letter of Intent (LOI), may submit the LOI to NOAA EPP no later than April 5, 2010. The LOIs will assist NOAA in determining the number and locations for programmatic informational sessions. NOAA plans to announce dates of the programmatic information sessions in the spring 2010 FRN.

Classification

Limitation of Liability

In no event will NOAA or the Department of Commerce be responsible for proposal preparation costs if this program is cancelled because of other agency priorities. Publication of this announcement does not oblige NOAA to award any specific project or to obligate any available funds. Applicants are hereby given notice that funding for the Fiscal Year 2010 program is contingent upon the availability of Fiscal Year 2010 appropriations.

Universal Identifier

Applicants should be aware they are required to provide a Dun and Bradstreet Data Universal Numbering System (DUNS) number during the application process. See the October 30, 2002, Federal Register, (67, FR 66177) for additional information. Organizations can receive a DUNS number at no cost by calling the dedicated toll-free DUNS Number request line at 1-866-705-5711 or via the Internet at http://www.dunandbradstreet.com.

National Environmental Policy Act (NEPA)

NOAA must analyze the potential environmental impacts, as required by the National Environmental Policy Act (NEPA), for applicant projects or proposals which are seeking NOAA federal funding opportunities. Detailed information on NOAA compliance with NEPA can be found at the following NOAA NEPA website: http://www.nepa.noaa.gov/, including our NOAA Administrative Order 216-6 for NEPA, http://www.nepa.noaa.gov/NAO216_6_TOC.pdf, and the Council on Environmental Quality implementation regulations, http://ceq.eh.doe.gov/nepa/regs/ceq/toc_ceq.htm. Consequently, as part of an applicant's package, and under their description of their program activities, applicants are required to provide detailed information on the activities to be conducted, locations, sites, species and habitat to be affected, possible construction activities, and any environmental concerns that may exist (e.g., the use and disposal of hazardous or toxic chemicals, introduction of non-indigenous species, impacts to endangered and threatened species, aquaculture projects, and impacts to coral reef systems). In addition to providing specific information that will serve as the basis for any required impact analyses, applicants may also be requested to assist NOAA in drafting of an environmental assessment, if NOAA determines an assessment is required. Applicants will also be required to cooperate with NOAA in identifying feasible measures to reduce or avoid any identified adverse environmental impacts of their proposal. The failure to do so shall be grounds for not selecting an application. In some cases if additional information is required after an application is selected, funds can be withheld by the Grants Officer under a special award condition requiring the recipient to submit additional environmental compliance information sufficient to enable NOAA to make an assessment on any impacts that a project may have on the environment.

The Department of Commerce Pre-award Notification Requirements for Grants and Cooperative Agreements contained in the Federal Register notice of October 1, 2001 (66 FR 49917), as amended by the Federal Register notice published on: October 30, 2002 (67 FR 66109); December 30, 2004 (69 FR 78389); and February 11, 2008 (73 FR 7696) are applicable to this solicitation.

Paperwork Reduction Act

This document contains collection-of-information requirements subject to the Paperwork Reduction Act (PRA). The use of Standard Forms 424, 424A, 424B, SF-LLL, and CD-346 has been approved by the Office of Management and Budget (OMB) under the respective control numbers 0348-0043, 0348-0044, 0348-0040, 0348-0046, and 0605-0001. Notwithstanding any other provision of law, no person is required to respond to, nor shall any person be subject to a penalty for failure to comply with, a collection of information subject to the requirements of the PRA unless that collection of information displays a currently valid OMB control number.

Executive Order 12866

This notice has been determined to be not significant for purposes of Executive Order 12866.

Executive Order 13132 (Federalism)

It has been determined that this notice does not contain policies with Federalism implications as that term is defined in Executive Order 13132.

Administrative Procedure Act/ Regulatory Flexibility Act

Prior notice and an opportunity for public comment are not required by the Administrative Procedure Act or any other law for rules concerning public property, loans, grants, benefits, and contracts (5 U.S.C. 553(a)(2)). Because notice and opportunity for comment are not required pursuant to 5 U.S.C. 553 or any other law, the analytical requirements of the Regulatory Flexibility Act (5 U.S.C. 601 et seq.) are inapplicable. Therefore, a regulatory flexibility analysis has not been prepared.

Dated: March 15, 2010.
Tammy L. Journet,
Deputy Director, Acquisition and Grants.

[FR Doc. 2010-6249 Filed 3-19-10; 8:45 am]

BILLING CODE 3510-12-S